DEPARTMENT OF THE INTERIOR

Bureau of Land Management

Notice of Proposed Reinstatement of Terminated Oil and Gas Lease WYW131797

AGENCY: Bureau of Land Management, Interior.

ACTION: Notice.

SUMMARY: Under the provisions of Section 371(a) of the Energy Policy Act of 2005, the lessee, Tippens Oil Investments, timely filed a petition for reinstatement of competitive oil and gas lease WYW131797 in Fremont County, Wyoming. The lessee paid the required rental accruing from the date of termination, April 1, 2002.

No leases were issued that affect these lands. The lessee agrees to new lease terms for rentals of $10.00 per acre and royalties of 16⅔ percent or 4 percentages above the existing competitive royalty rate. The lessee has paid the required $500 administrative fee for the reinstatement of the lease and $166 cost for publishing this Notice.

The lessee has met all the requirements for reinstatement of the lease per Sec. 31(e) of the Mineral Leasing Act of 1920 (30 U.S.C. 188(e)). We are proposing to reinstate the lease, effective the date of termination subject to:

• The original terms and conditions of the lease;

• The increased rental of $10.00 per acre; and

• The increased royalty of 16⅔ percent or 4 percentages above the existing competitive royalty rate.

FOR FURTHER INFORMATION CONTACT: Bureau of Land Management, Pamela J. Lewis, Chief, Branch of Fluid Minerals Adjudication, at (307) 775-6176.

Pamela J. Lewis,
Chief, Branch of Fluid Minerals Adjudication.

[FR Doc. E6-1579 Filed 2-3-06; 8:45 am]

BILLING CODE 4310-22-P